DEPARTMENT OF HEALTH AND HUMAN SERVICES

Centers for Disease Control and Prevention

[30Day-12-12BO]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Monitoring and Reporting System for Community Transformation Grant Awardees—New—National Center for Chronic Disease Prevention and Health Promotion (NCCDPHP), Centers for Disease Control and Prevention (CDC).

Background and Brief Description

The Community Transformation Grant (CTG) program facilitates the implementation, evaluation, and dissemination of evidence-based community preventive health activities that reduce the public health burden of chronic diseases. The program was authorized by the Prevention and Public Health Fund (PPHF) of the Patient Protection and Affordable Care Act of 2010 (ACA), and emphasizes five strategic areas: Tobacco-free living, active living and healthy eating, high impact evidence-based clinical and other preventive services, social and emotional wellness, and a healthy and safe physical environment. The CTG program is administered by the Centers for Disease Control and Prevention (CDC), National Center for Chronic Disease Prevention and Health Promotion (NCCDPHP).

In September 2011, CDC awarded 68 CTG cooperative agreements to state and local governmental agencies, tribes and territories, state or local non-profit organizations, and national networks of community-based organizations. Fifty-four awardees were from state, local and tribal government, and 14 awardees were from the private, non-profit sector. Each awardee is charged with implementing a work plan that will lead to specific, measurable health outcomes in its jurisdiction or service area. The evaluation strategy for the CTG requires awardees to define their objectives in a format that is specific, measurable, achievable, relevant and time-framed (SMART).

CTG awardees are required to provide semi-annual reports to CDC that describe and update their work plans, objectives, partnerships, resources, and activities. CDC will collect the information through a web-based electronic management information system (MIS). CDC conducted initial population of the MIS for the current 68 awardees. For routine, semi-annual reporting, the average burden is estimated at three hours per response. Burden for current CTG awardees is estimated solely on the basis of the required semi-annual reports.

If CDC receives funding to support additional CTG program awards, CDC will submit a Change Request to OMB that updates the list of CTG awardees and the total estimated annualized burden hours. New CTG awardees will be responsible for initial population of their MIS information. The estimated burden for each additional CTG awardee will include a one-time adjustment of 15 hours for initial population of their MIS information, in addition to the burden associated with routine semi-annual reporting.

The MIS will be used to satisfy CTG awardees' routine reporting requirements, monitor awardee progress, identify needs for targeted technical assistance, and respond to inquiries about the CTG initiative from the Department of Health and Human Services (HHS), the White House, Congress and other sources. CDC's collection of this information is authorized by section and sections 311 and 317(k)(2) of the Public Health Service Act, 42 U.S. Code 243 and 247b(k)2.

OMB approval is requested for three years. There are no costs to respondents other than their time. Based on the current 68 CTG awardees, the total estimated annualized burden hours are 408, including both public and private sector awardees.

Estimated Annualized Burden Hours
Type of respondents | Number of respondents | Number of responses per respondent | Average burden per response (in hours)
Community Transformation Grant Awardees (state, local and tribal government sector) | 54 | 2 | 3
CTG Awardees (private sector) | 14 | 2 | 3

Kimberly S. Lane,
Deputy Director, Office of Scientific Integrity, Office of the Associate Director for Science, Office of the Director, Centers for Disease Control and Prevention.

[FR Doc. 2012-11090 Filed 5-10-12; 8:45 am]

BILLING CODE 4163-18-P